NUCLEAR REGULATORY COMMISSION

[NRC-2016-0001]

Sunshine Act Meeting Notice

DATE: November 28, December 5, 12, 19, 26, 2016, January 2, 2017.

PLACE: Commissioners' Conference Room, 11555 Rockville Pike, Rockville, Maryland.

STATUS: Public and Closed.

Week of November 28, 2016

Tuesday, November 29, 2016

9:00 a.m. Briefing on Uranium Recovery (Public Meeting) (Contact: Samantha Crane: 301-415-6380)

This meeting will be webcast live at the Web address— http://www.nrc.gov/.

Week of December 5, 2016—Tentative

There are no meetings scheduled for the week of December 5, 2016.

Week of December 12, 2016—Tentative

Thursday, December 15, 2016

9:30 a.m. Briefing on Equal Employment Opportunity, Affirmative Employment, and Small Business (Public Meeting) (Contact: Larniece McKoy Moore: 301-415-1942)

This meeting will be webcast live at the Web address— http://www.nrc.gov/.

Week of December 19, 2016—Tentative

There are no meetings scheduled for the week of December 19, 2016.

Week of December 26, 2016—Tentative

There are no meetings scheduled for the week of December 26, 2016.

Week of January 2, 2017—Tentative

There are no meetings scheduled for the week of January 2, 2017.

* * * * *

The schedule for Commission meetings is subject to change on short notice. For more information or to verify the status of meetings, contact Denise McGovern at 301-415-0981 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: November 22, 2016.
Denise L. McGovern,
Policy Coordinator, Office of the Secretary.

[FR Doc. 2016-28495 Filed 11-22-16; 4:15 pm]

BILLING CODE 7590-01-P